NATIONAL ARCHIVES AND RECORDS ADMINISTRATION

[NARA-2019-024]

Advisory Committee on the Records of Congress; Meeting

AGENCY: National Archives and Records Administration (NARA).

ACTION: Notice of Federal Advisory Committee meeting.

SUMMARY: We are announcing an upcoming meeting of the Advisory Committee on the Records of Congress. The committee advises NARA on the full range of programs, policies, and plans for the Center for Legislative Archives in NARA's Office of Legislative Archives, Presidential Libraries, and Museum Services (LPM).

DATES: The meeting will be on June 21, 2019, from 10:00 a.m. to 12:30 p.m.

Location: Russell Senate Office Building; 2 Constitution Avenue NE; Room SR-385; Washington, DC 20002.

FOR FURTHER INFORMATION CONTACT: Sharon Shaver, Center for Legislative Archives, by telephone at 202.357.6802, or by email at sharon.shaver@nara.gov.

SUPPLEMENTARY INFORMATION: This meeting is open to the public in accordance with the Federal Advisory Committee Act (5 U.S.C. app 2) and implementing regulations.

Agenda

(1) Chair's opening remarks—Secretary of the U.S. Senate

(2) Recognition of Co-chair—Clerk of the U.S. House of Representatives

(3) Recognition of the Archivist of the United States

(4) Approval of the minutes of the last meeting

(5) House Archivist's report

(6) Senate Archivist's report

(7) Center for Legislative Archives update

(8) Other current issues and new business

Miranda J. Andreacchio,
Committee Management Officer.

[FR Doc. 2019-11056 Filed 5-24-19; 8:45 am]

BILLING CODE 7515-01-P